DEPARTMENT OF TRANSPORTATION

Federal Aviation Administration

Notice of Intent To Rule on Application 03-04-C-00-BIS To Impose and Use the Revenue From a Passenger Facility Charge (PFC) at Bismarck Municipal Airport, Bismarck, North Dakota

AGENCY: Federal Aviation Administration (FAA), DOT.

ACTION: Notice of intent to rule on application.

SUMMARY: The FAA proposes to rule and invites public comment on the application to impose and use the revenue from a PFC at Bismarck Municipal Airport under the provisions of the 49 U.S.C. 40117 and Part 158 of the Federal Aviation Regulations (14 CFR part 158).

DATES: Comments must be received on or before July 31, 2003.

ADDRESSES: Comment on this application may be mailed or delivered in triplicate to the FAA at the following address: Bismarck Airports District Office, 2301 University Drive, Building 23B, Bismarck, North Dakota 58504.

In addition, one copy of any comments submitted tot he FAA must be mailed or delivered to Mr. Gregory Haug, Airport Manager of the City of Bismarck, North Dakota at the following address: Bismarck Municipal Airport, PO Box 991, Bismarck, North Dakota 58502.

Air carriers and foreign air carriers may submit copies of written comments previously provided to the city of Bismarck under section 158.23 of Part 158.

FOR FURTHER INFORMATION CONTACT: Mr. Thomas T. Schauer, Program Manager, Bismarck Airports District Office, 2301 University Drive, Building 23B, Bismarck, North Dakota 58504, (701) 323-7380. The application may be reviewed in person at this same location.

SUPPLEMENTARY INFORMATION: The FAA proposes to rule and invite public comment on the application to impose and use the revenue from a PFC at Bismarck Municipal Airport under the provisions of the 49 U.S.C. 40117 and Part 158 of the Federal Aviation Regulations (14 CFR part 158).

On June 6, 2003, the FAA determined that the application to impose and use the revenue from a PFC submitted by the City of Bismarck was substantially complete within the requirements of § 158.25 of Part 158. The FAA will approve or disapprove the application, in whole or in part, no later than September 6, 2003.

The following is a brief overview of the application.

Proposed charge effective date: March 1, 2004.

Proposed charge expiration date: September 30, 2014.

Level of the proposed PFC: $4.50.

Total estimated PFC revenue: $5,709,285.

Brief description of proposed projects: Filing of Wetlands in Northwest Quadrant of the Airport, Rehabilitate Taxiways C and D, Update Airport Layout Plan, Expand General Aviation Ramp, New Terminal Area Development Project, Plans and Specifications for CY 2005 Construction, Taxiway C Rehabilitation and Corner Extension, Plans and Specifications for CY 2006 Construction, Purchase Two Plow Trucks, Master Plan Update, PFC Application Preparation. Class or classes of air carriers, which the public agency has requested, not be required to collect PFCs: Air Taxi/Commercial Operators filing FAA Form 1800-31, except commuter air carriers.

Any person may inspect the application in person at the FAA office listed above under FOR FURTHER INFORMATION CONTACT.

In addition, any person, upon request, may inspect the application, notice and other documents germane to the application in person at the City of Bismarck—Bismarck Municipal Airport.

Issued in Des Plaines, Illinois on June 23, 2003.
Robert A. Huber,
Acting Manager, Planning and Programming Branch, Airports Division, Great Lakes Region.

[FR Doc. 03-16554 Filed 6-30-03; 8:45 am]

BILLING CODE 4910-13-M